CIVIL RIGHTS COMMISSION

Sunshine Act Meetings

AGENCY: U.S. Commission on the Social Status of Black Men and Boys (CSSBMB), U.S. Commission on Civil Rights (USCCR).

ACTION: Notice of CSSBMB public business meeting.

DATES: Friday, December 20 11 a.m.-12:30 p.m. EDT.

ADDRESSES: Meeting to take place virtually and is open to the public via livestream on United States Commission on Civil Rights' official YouTube channel.

FOR FURTHER INFORMATION CONTACT: Diamond Newman, 202-339-2371, dnewman@usccr.gov.

SUPPLEMENTARY INFORMATION: In accordance with Public Law 116-156, 1134 Stat. 700 (2020), the U.S. Commission on the Social Status of Black Men and Boys (CSSBMB) will hold its first quarter business meeting and briefing to discuss CSSBMB business and 2025 goals and objectives, theme highlights on Black male education and disrupting the school-to-prison pipeline, disproportionate suspensions of Black male students, and the mental health crisis affecting Black men and boys. The meeting is open to the public via livestream on United States Commission on Civil Rights' official YouTube channel. (Streaming information subject to change.) Public participation is available for the event with view access, along with an audio option for listening. Computer assisted real-time transcription (CART) will be provided. The web link to access CART (in English) on December 20 is https://youtube.com/live/WaF2uln4h14. Please note that CART is text-only translation that occurs in real time during the meeting and is not an exact transcript.

* Date and meeting details are subject to change. For more information on the CSSBMB or the upcoming public briefing, please visit CSSBMB.gov and CSSBMB's Instagram, Facebook, and X.

Agenda

* Welcome and Call to Order (11:00 a.m.-11:03 a.m.)

* Chair's Opening Remarks and Acknowledgment of Commissioners' Service (11:03 a.m.-11:10 a.m.)

* The Chair will thank Commissioners for their dedication and service.

* Business Meeting (11:10 a.m.-11:35 a.m.)

* Quorum Confirmation (11:10 a.m.-11:12 a.m.)

* Adoption of Agenda (11:12 a.m.-11:15 a.m.)

* Reports from Director and Staff (11:15 a.m.-11:35 a.m.)

* Updates on Current Initiatives (Annual Report, White Papers, Briefings, Social Media)

* Future Planning for 2024 (Summits, Education Programs, Outreach Initiatives)

* Commissioners' Reflections and Remarks (11:35 a.m.-11:50 a.m.)

* Commissioners will have the opportunity to share thoughts and reflections.

* Chair Comments and Closing Remarks (11:50 a.m.-12:00 p.m.)

* Adjourn Meeting (12:00 p.m.)

* Briefing Agenda

Dated: December 19, 2024.
Zakee Martin,
CSSBMB Deputy Director, Office of the Staff Director, USCCR.

[FR Doc. 2024-30827 Filed 12-19-24; 4:15 pm]

BILLING CODE P